DEPARTMENT OF ENERGY

Federal Energy Regulatory Commission

[Project No.1881-050; Pennsylvania]

PPL Holtwood, LLC; Notice of Availability of the Draft Environmental Impact Statement for the Holtwood Project

July 18, 2008.

In accordance with the National Environmental Policy Act of 1969 and the Federal Energy Regulatory Commission's (Commission) regulations, 18 CFR Part 380 (Order No. 486, 52 FR 47897), the Office of Energy Projects has reviewed the capacity related amendment application for PPL Holtwood LLC's 107.2-megawatt Holtwood Hydroelectric Project (Project No. 1881), located on the Susquehanna river in the counties of Lancaster and York, Pennsylvania. Based upon this review, the Office of Energy Projects has prepared a Draft Environmental Impact Statement (draft EIS) for the project.

The draft EIS contains staff's evaluation of the applicant's proposal and alternatives. The proposal is for the construction of a new powerhouse, installation of turbines, construction of a new skimmer wall, enlargement of the forebay, and reconfiguration of the project facilities to enhance upstream fish passage through modifications of the existing fishway and excavation in the tailrace channel. The installed capacity would increase by approximately 80 MW. Additionally, PPL Holtwood LLC requested a 16-year extension of the current license term until August 31, 2030. The draft EIS documents the views of governmental agencies, non-governmental organizations, affected Indian tribes, the public, and Commission staff.

A copy of the draft EIS is available for review in the Commission's Public Reference Branch, Room 2A, located at 888 First Street, NE., Washington, DC 20426. The final EIS also may be viewed on the Commission's Web site at http://www.ferc.gov under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Blake Condo at (202) 502-8914 or blake.condo@ferc.gov.

Kimberly D. Bose,
Secretary.

[FR Doc. E8-17176 Filed 7-25-08; 8:45 am]

BILLING CODE 6717-01-P